DEPARTMENT OF ENERGY

Federal Energy Regulatory Commission

Combined Notice of Filings

Take notice that the Commission has received the following Natural Gas Pipeline Rate and Refund Report filings:

Filings Instituting Proceedings

Docket Numbers: RP23-165-000.

Applicants: El Paso Natural Gas Company, L.L.C.

Description: § 4(d) Rate Filing: Negotiated Rate Agreement Update (Shell Nov 2022) to be effective 11/4/2022.

Filed Date: 11/3/22.

Accession Number: 20221103-5073.

Comment Date: 5 p.m. ET 11/15/22.

Docket Numbers: RP23-166-000.

Applicants: Gulf Run Transmission, LLC.

Description: § 4(d) Rate Filing: Baseline Filing in Compliance with CP20-70, et al Order to be effective 12/15/2022.

Filed Date: 11/3/22.

Accession Number: 20221103-5119.

Comment Date: 5 p.m. ET 11/15/22.

Docket Numbers: RP23-167-000.

Applicants: Guardian Pipeline, L.L.C.

Description: § 4(d) Rate Filing: Combined Update to Remove Non-Conforming Wisconsin Gas Agmts & Expired PALs to be effective 12/5/2022.

Filed Date: 11/3/22.

Accession Number: 20221103-5123.

Comment Date: 5 p.m. ET 11/15/22.

Docket Numbers: RP23-168-000.

Applicants: Rockies Express Pipeline LLC.

Description: § 4(d) Rate Filing: REX 2022-11-03 Negotiated Rate Agreements Amendments to be effective 11/3/2022.

Filed Date: 11/3/22.

Accession Number: 20221103-5124.

Comment Date: 5 p.m. ET 11/15/22.

Docket Numbers: RP23-169-000.

Applicants: Rockies Express Pipeline LLC.

Description: § 4(d) Rate Filing: REX 2022-11-04 Negotiated Rate Agreements Amendments to be effective 11/4/2022.

Filed Date: 11/4/22.

Accession Number: 20221104-5046.

Comment Date: 5 p.m. ET 11/16/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2022.
Kimberly D. Bose,
Secretary.

[FR Doc. 2022-24532 Filed 11-9-22; 8:45 am]

BILLING CODE 6717-01-P